DEPARTMENT OF HEALTH AND HUMAN SERVICES

Centers for Disease Control and Prevention

[30Day-19-0017]

Agency Forms Undergoing Paperwork Reduction Act Review

In accordance with the Paperwork Reduction Act of 1995, the Centers for Disease Control and Prevention (CDC) has submitted the information collection request titled Application for Training (OMB Control No. 0920-0017) to the Office of Management and Budget (OMB) for review and approval. CDC previously published a “Proposed Data Collection Submitted for Public Comment and Recommendations” notice on December 10, 2018 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Application for Training (OMB No. 0920-0017, expiration 06/30/2019)—Revision—Center for Surveillance, Epidemiology and Laboratory Services (CSELS), Centers for Disease Control and Prevention (CDC).

Background and Brief Description

CSELS requests a three year approval for a revision to the Training and Continuing Education Online (TCEO) system, which will comprise four data collection and management tools. Requested revisions are (1) to add questions to the existing TCEO New Participant Registration and (2) to introduce a Post-Course Evaluation and a Follow-Up Evaluation. No changes are requested for the existing TCEO Proposal Tool.

TCEO provides access to CDC educational activities that offer continuing education to public health and healthcare professionals (learners) to maintain their professional licensures and certifications. Licensures and certifications are mandatory for certain health professionals to provide services that prevent and mitigate illness and save lives. Employees of hospitals, universities, medical centers, state and local health departments, and federal agencies participate in CDC's accredited educational activities to learn about current public health and healthcare practices. CDC is accredited by seven accreditation organizations to provide continuing education for public health and healthcare professionals.

CDC and CDC-funded educational activities include classroom study, conferences, and electronic learning (e-learning). The TCEO Proposal expedites submission, review, and accreditation processes for these CDC and CDC-funded educational activities. The information collected from educational developers provides CDC with the information necessary to meet accreditation requirements. CDC reviews proposals to ensure compliance with requirements and awards continuing education when activities meet accreditation standards. The educational activities that can offer continuing education are then added to TCEO for learners to access.

Accreditation organizations require a method of tracking learners who complete an educational activity and some require collection of profession-specific data, among other requirements. CDC requires health professionals who seek continuing education to establish an account by completing the TCEO New Participant Registration. CDC relies on this electronic form to collect information needed to coordinate learner registrations for educational activities.

The proposed inclusion of two new evaluation tools is required by accreditation organizations to ensure compliance with accreditation standards. Public health professionals will be required to take the TCEO Post-course Evaluation after they have participated in an educational activity and before they can earn continuing education. Health professionals who have received continuing education for the activity will be encouraged to complete the TCEO Follow-up Evaluation when a link is sent to them from TCEO by email. Reports on responses to both tools will be submitted to accreditation organizations when they conduct audits or when CDC requests renewal of accreditation. Both new tools provide information to help CDC improve the quality of its educational activities.

Proposed changes will ensure that CDC is in compliance with accreditation requirements, and improve the quality of educational activities, while continuing to offer accredited educational activities at no cost to learners. Because of the increasing demand for accredited educational activities that offer free CE for licensures and certifications, TCEO experiences a continued increase in educational activities completed each year by registered learners. Every year, the number of times learners complete steps to earn continuing education increases by approximately 15%. The two new evaluation tools will be shared with all learners who complete educational activities in TCEO, causing the annual burden estimate to increase significantly. The annual burden table has been updated to reflect the new TCEO Post-course Evaluation (66,667 burden hours) and the new TCEO Follow-up Evaluation (2,000 burden hours), for a total of 85,934 burden hours. There are no costs to respondents.

Estimated Annualized Burden Hours
Type of respondents | Form name | Number of respondents | Number of responses per respondent | Average burden per response (in hours)
Educational Developers (Health Educators) | TCEO Proposal | 120 | 1 | 5
Public Health and Health Care Professionals (Learners) | TCEO New Participant Registration | 200,000 | 1 | 5/60
Public Health and Health Care Professionals (Learners) | TCEO Post-course Evaluation | 200,000 | 2 | 10/60
Public Health and Health Care Professionals (Learners) | TCEO Follow-up Evaluation | 20,000 | 2 | 3/60

Jeffrey M. Zirger,
Lead, Information Collection Review Office, Office of Scientific Integrity, Office of Science, Centers for Disease Control and Prevention.

[FR Doc. 2019-03773 Filed 3-1-19; 8:45 am]

BILLING CODE 4163-18-P